ENVIRONMENTAL PROTECTION AGENCY

[EPA-HQ-SFUND-2004-0008; FRL-9939-70-OSWER]

Proposed Information Collection Request; Comment Request; Consolidated Superfund Information Collection Request (Renewal)

AGENCY: Environmental Protection Agency (EPA).

ACTION: Notice.

SUMMARY: The Environmental Protection Agency (EPA) is planning to submit an information collection request (ICR), “Consolidated Superfund Information Collection Request (Renewal)” (EPA ICR No. 1487.13, OMB Control No. 2050-0179) to the Office of Management and Budget (OMB) for review and approval in accordance with the Paperwork Reduction Act (PRA) (44 U.S.C. 3501 et seq.). Before doing so, EPA is soliciting public comments on specific aspects of the proposed information collection as described below. This notice is a proposed extension of the ICR, which is currently approved through April 30, 2016. This ICR is a continuing consolidation of the following previous ICRs: OMB Control Number 2050-0179 (Cooperative Agreements and Superfund State Contracts for Superfund Response Actions), OMB Control Number 2050-0095 (Superfund Site Evaluation and Hazard Ranking System (HRS)), and OMB Control Number 2050-0096 (National Oil and Hazardous Substances Pollution Contingency Plan (NCP)). An Agency may not conduct or sponsor and a person is not required to respond to a collection of information unless it displays a currently valid OMB control number.

DATES: Comments must be submitted on or before February 5, 2016.

ADDRESSES: Submit your comments, referencing Docket ID No. EPA-HQ-2004-0008, online using www.regulations.gov (our preferred method), by email to superfund.docket@epa.gov, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Laura Knudsen, Office of Solid Waste and Emergency Response, Assessment and Remediation Division, (5204P), Environmental Protection Agency, 1200 Pennsylvania Ave. NW., Washington, DC 20460; telephone number: 703-603-8861; fax number: 703-603-9102; email address: knudsen.laura@epa.gov.

SUPPLEMENTARY INFORMATION: Supporting documents which explain in detail the information that the EPA will collect are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: This ICR covers the following: The collection of information under 40 CFR part 35, subpart O, which establishes the administrative requirements for cooperative agreements funded under the Comprehensive Environmental Response, Compensation, and Liability Act (CERCLA) for state, federally-recognized Indian tribal governments, and political subdivision response actions; the application of the Hazard Ranking System (HRS) by states as outlined by section 105 of CERCLA (1980 and 1986) that amends the National Oil and Hazardous Substances Pollution Contingency Plan (NCP) to include criteria prioritizing releases throughout the U.S. before undertaking remedial action at uncontrolled hazardous waste sites; and the remedial portion of the Superfund program as specified in the Comprehensive Environmental Response, Compensation, and Liability Act of 1980 as amended (CERCLA) and the National Oil and Hazardous Substances Pollution Contingency Plan (NCP). For Cooperative Agreements and Superfund State Contracts for Superfund Response Actions, the information is collected from applicants and/or recipients of EPA assistance and is used to make awards, pay recipients, and collect information on how federal funds are being utilized. EPA requires this information to meet its federal stewardship responsibilities. Recipient responses are required to obtain a benefit (federal funds) under 40 CFR part 31, “Uniform Administrative Requirements for Grants and Cooperative Agreements to State and Local Governments” and under 40 CFR part 35, “State and Local Assistance.” For the Superfund Site Evaluation and Hazard Ranking System, the states will apply the HRS by identifying and classifying those releases or sites that warrant further investigation. The HRS score is crucial since it is the primary mechanism used to determine whether a site is eligible to be included on the National Priorities List (NPL). Only sites on the NPL are eligible for Superfund-financed remedial actions. For the NCP information collection, some community involvement activities covered by this ICR are not required at every site (e.g., Technical Assistance Grants) and depend very much on the community and the nature of the site and cleanup. All community activities seek to involve the public in the cleanup of the sites, gain the input of community members, and include the community's perspective on the potential future reuse of Superfund NPL sites. Community involvement activities can enhance the remedial process and increase community acceptance and the potential for productive and beneficial reuse of the sites.

Form Numbers: None.

Respondents/affected entities: State, Local or Tribal Governments; Communities; US Territories.

Respondent's obligation to respond: Required to obtain benefits (for the Cooperative Agreements and Superfund State Contracts under 40 CFR part 35); Required to Obtain Benefits (for the Superfund Site Evaluation and Hazard Ranking System ICR under section 105 of the CERCLA, 1980 and 1986); and Required to Obtain Benefits (for the National Oil and Hazardous Substances Pollution Contingency Plan under CERCLA).

Estimated number of respondents: 12,131 (total).

Frequency of response: On occasion.

Total estimated burden: 308,458 hours (per year). Burden is defined at 5 CFR 1320.03(b).

Total estimated cost: $481,661.59 (per year), includes $0 annualized capital or operation & maintenance costs.

Changes in Estimates: There is no anticipated change of hours in the total estimated respondent burden compared with the ICR currently approved by OMB. The estimates are expected to substantially stay the same because there have been no significant changes in respondents and the scope of the activities listed under this ICR remains unchanged.

Dated: November 24, 2015.
James E. Woolford,
Director, Office of Superfund Remediation and Technology Innovation.

[FR Doc. 2015-30799 Filed 12-4-15; 8:45 am]

BILLING CODE 6560-50-P